DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (the Program), as required by Section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place NW., Washington, DC 20005, (202) 357-6400. For information on HRSA's role in the Program, contact the Director, National Vaccine Injury Compensation Program, 5600 Fishers Lane, Room 11C-26, Rockville, MD 20857; (301) 443-6593.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at Section 2114 of the PHS Act or as set forth at 42 CFR 100.3, as applicable. This Table lists for each covered childhood vaccine the conditions which may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on September 1, 2014, through September 30, 2014. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

(a) “Sustained, or had significantly aggravated, any illness, disability, injury, or condition not set forth in the Vaccine Injury Table but which was caused by” one of the vaccines referred to in the Table, or

(b) “Sustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading FOR FURTHER INFORMATION CONTACT), with a copy to HRSA addressed to Director, Division of Injury Compensation Programs, Healthcare Systems Bureau, 5600 Fishers Lane, Room 11C-26, Rockville, MD 20857. The Court's caption (Petitioner's Name v. Secretary of Health and Human Services) and the docket number assigned to the petition should be used as the caption for the written submission. Chapter 35 of title 44, United States Code, related to paperwork reduction, does not apply to information required for purposes of carrying out the Program.

Dated: October 15, 2014.
Mary K. Wakefield,
Administrator.

List of Petitions Filed

1. Andrew Kozel, Pleasanton, California, Court of Federal Claims No: 14-0797V

2. Shannon Churchwell on behalf of R. C. B., Springfield, Oregon, Court of Federal Claims No: 14-0798V

3. Kaye Ann Tufts, Alpena, Michigan, Court of Federal Claims No: 14-0799V

4. Ramona Mary Mestas, Roswell, New Mexico, Court of Federal Claims No: 14-0800V

5. Nicole Muller on behalf of A. M., Mount Laurel, New Jersey, Court of Federal Claims No: 14-0801V

6. Laura Haley, Miami, Florida, Court of Federal Claims No: 14-0802V

7. Thomas Watlington, Forrest City, Arkansas, Court of Federal Claims No: 14-0803V

8. Lobelia Sharp-Rountree, Vancouver, Washington, Court of Federal Claims No: 14-0804V

9. Richard Cass, Washingtonville, New York, Court of Federal Claims No: 14-0805V

10. Kavita Desai, New York City, New York, Court of Federal Claims No: 14-0811V

11. Curt Wilcox, Caribou, Maine, Court of Federal Claims No: 14-0813V

12. Jihyun Park, Greenville, South Carolina, Court of Federal Claims No: 14-0815V

13. Parra O'Siochain, Bolinas, California, Court of Federal Claims No: 14-0816V

14. Lisa Tilley on behalf of Olivia Tilley, Roseville, California, Court of Federal Claims No: 14-0818V

15. Denise Benton, Dallas, Texas, Court of Federal Claims No: 14-0819V

16. Michael Mager on behalf of Victoria Mager, Deceased, Baraboo, Wisconsin, Court of Federal Claims No: 14-0820V

17. Linda Hurley, Ormond Beach, Florida, Court of Federal Claims No: 14-0823V

18. Afton J. Montgomery on behalf of Caden J. Benoit, Opelousas, Louisiana, Court of Federal Claims No: 14-0824V

19. Joshua Kupka, Coral Springs, Florida, Court of Federal Claims No: 14-0826V

20. Lucas Hinojosa, Boston, Massachusetts, Court of Federal Claims No: 14-0827V

21. Gary Fazenbaker, Morgantown, West Virginia, Court of Federal Claims No: 14-0828V

22. Theodore Anglace, Dover, New Hampshire, Court of Federal Claims No: 14-0829V

23. Tissa Abeyratne, Flushing, New York, Court of Federal Claims No: 14-0830V

24. Patricia Jacobs, Conover, North Carolina, Court of Federal Claims No: 14-0833V

25. Patricia Beltran, Alexandria, Virginia, Court of Federal Claims No: 14-0834V

26. Pamela Lawrence, Toledo, Ohio, Court of Federal Claims No: 14-0835V

27. Daniela Crumpton on behalf of Laylah Crumpton, Lawton, Oklahoma, Court of Federal Claims No: 14-0837V

28. Chelsea Burton on behalf of J. B., Lakewood, California, Court of Federal Claims No: 14-0839V

29. Michael Schiffgens, Salem, Massachusetts, Court of Federal Claims No: 14-0840V

30. Nicole Previti, Trenton, Michigan, Court of Federal Claims No: 14-0843V

31. Virginia Bilthuis, Kentwood, Michigan, Court of Federal Claims No: 14-0844V

32. McKenna Wojick, St. Louis Park, Minnesota, Court of Federal Claims No: 14-0845V

33. Kory Brimmer, Albuquerque, New Mexico, Court of Federal Claims No: 14-0846V

34. Sheryl Cox, Maynardville, Tennessee, Court of Federal Claims No: 14-0847V

35. Katie Smith, Pensacola, Florida, Court of Federal Claims No: 14-0848V

36. Mary H. Dahl, Vestavia, Alabama, Court of Federal Claims No: 14-0849V

37. Lawrence Brown, Pottstown, Pennsylvania, Court of Federal Claims No: 14-0850V

38. James Stepp, Williamson, West Virginia, Court of Federal Claims No: 14-0851V

39. Thomas Luch, Pontiac, Michigan, Court of Federal Claims No: 14-0852V

40. Norma Monge-Landry, Boston, Massachusetts, Court of Federal Claims No: 14-0853V

41. Angela M. Smith, Waianae, Hawaii, Court of Federal Claims No: 14-0856V

42. Dennis Parker, Madisonville, Kentucky, Court of Federal Claims No: 14-0857V

43. Karen C. Bonner, Powhatan, Virginia, Court of Federal Claims No: 14-0858V

44. Doris Griffith, Cleveland, Tennessee, Court of Federal Claims No: 14-0859V

45. Antonio DeFelice, Greenfield, Indiana, Court of Federal Claims No: 14-0860V

46. Rosie M. Taylor, Federal Way, Washington, Court of Federal Claims No: 14-0861V

47. Russell Baker, Tarpon Springs, Florida, Court of Federal Claims No: 14-0862V

48. John Diaz and Jordia Nunez on behalf of Josiah John Diaz, Deceased, Bronx, New York, Court of Federal Claims No: 14-0863V

49. Carmen Ramirez on behalf of Luis Arroyo-Ramirez, Monrovia, California, Court of Federal Claims No: 14-0866V

50. Carmel McDowell, Shallotte, North Carolina, Court of Federal Claims No: 14-0867V

51. Howard Alexander and Sharyn Alexander on behalf of W. A., Baraboo, Wisconsin, Court of Federal Claims No: 14-0868V

52. Diane Solak, Rochester, Michigan, Court of Federal Claims No: 14-0869V

53. Jack Backes, San Diego, California, Court of Federal Claims No: 14-0871V

54. Carmen Carreon, Santa Barbara, California, Court of Federal Claims No: 14-0873V

55. Joan Horowitz, Cleveland, Ohio, Court of Federal Claims No: 14-0874V

56. Jenny Howard on behalf of H. C., Phoenix, Arizona, Court of Federal Claims No: 14-0878V

57. Donna Anderson, Manchester, Connecticut, Court of Federal Claims No: 14-0879V

58. Kenneth Bible, Talihina, Oklahoma, Court of Federal Claims No: 14-0880V

59. Jeffrey Pierce, Henderson, Nevada, Court of Federal Claims No: 14-0881V

60. Kirstin Poma, Portland, Maine, Court of Federal Claims No: 14-0882V

61. Matthew McLaughlin, Rochester, New York, Court of Federal Claims No: 14-0883V

62. Vicky Hermreck, Riverbank, California, Court of Federal Claims No: 14-0884V

63. Joseph Lee Duran, Albuquerque, New Mexico, Court of Federal Claims No: 14-0885V

64. Theresa Rosa, Thermal, California, Court of Federal Claims No: 14-0886V

65. Gloria Holmes, Atlanta, Georgia, Court of Federal Claims No: 14-0887V

66. Steve Baldwin, Encinitas, California, Court of Federal Claims No: 14-0888V

67. Mary Ellen Potter, Andover, Massachusetts, Court of Federal Claims No: 14-0889V

68. Margaret Randle on behalf of K. R., Moreno Valley, California, Court of Federal Claims No: 14-0890V

69. Richard Baldwin, Pottsville, Pennsylvania, Court of Federal Claims No: 14-0891V

70. William Gable, Seattle, Washington, Court of Federal Claims No: 14-0892V

71. Eva M. Kinkaid, Rockford, Illinois, Court of Federal Claims No: 14-0893V

72. Anup Parikh, M.D., Charlotte, North Carolina, Court of Federal Claims No: 14-0894V

73. Paula F. Holland, Cicero, New York, Court of Federal Claims No: 14-0895V

74. Scott Woodring, Cadillac, Michigan, Court of Federal Claims No: 14-0896V

75. Buntly Willard and Kristin Willard on behalf of NW., San Antonio, Texas, Court of Federal Claims No: 14-0897V

76. Theodore A. Bryan, Middletown, Pennsylvania, Court of Federal Claims No: 14-0898V

77. Jennifer Nash, Chicago, Illinois, Court of Federal Claims No: 14-0900V

78. Diana Darken, Joliet, Illinois, Court of Federal Claims No: 14-0901V

79. Michael Antros, Chicago, Illinois, Court of Federal Claims No: 14-0902V

80. Jaime Brown on behalf of Damien Ballard, Tampa, Florida, Court of Federal Claims No: 14-0903V

81. Susan Elizabeth Reichard, Seattle, Washington, Court of Federal Claims No: 14-0904V

82. Anne Abbott on behalf of R. A., Phoenix, Arizona, Court of Federal Claims No: 14-0907V

83. Anthony Mirra on behalf of Nancy Toner, Deceased, Staten Island, New York, Court of Federal Claims No: 14-0908V

84. Pamela Boshart Lynch, Buffalo, New York, Court of Federal Claims No: 14-0909V

85. Philip Altieri, Branchburg, New Jersey, Court of Federal Claims No: 14-0910V

86. Janette Cole, Del City, Oklahoma, Court of Federal Claims No: 14-0911V

87. Caren Shanley, Port St. Lucie, Florida, Court of Federal Claims No: 14-0912V

88. Michael Angell and Anna Angell on behalf of D. A., Las Vegas, Nevada, Court of Federal Claims No: 14-0914V

89. Michael Robinson on behalf of D. R., Boston, Massachusetts, Court of Federal Claims No: 14-0915V

90. Margaret Haworth, Boston, Massachusetts, Court of Federal Claims No: 14-0916V

91. Chris Powers, Boston, Massachusetts, Court of Federal Claims No: 14-0917V

92. Steven Brass, Boston, Massachusetts, Court of Federal Claims No: 14-0918V

93. Margaret McSorley, Boston, Massachusetts, Court of Federal Claims No: 14-0919V

94. Lynnetta Zuzow, Boston, Massachusetts, Court of Federal Claims No: 14-0920V

95. Harvey Walker, Boston, Massachusetts, Court of Federal Claims No: 14-0921V

96. Mary Van Kooten, Bloomington, Indiana, Court of Federal Claims No: 14-0923V

97. Kristen McEvoy, Dallas, Texas, Court of Federal Claims No: 14-0928V

98. Darren Starr on behalf of Joshua Starr, Orinda, California, Court of Federal Claims No: 14-0929V

[FR Doc. 2014-25210 Filed 10-22-14; 8:45 am]

BILLING CODE 4165-15-P